DEPARTMENT OF TRANSPORTATION

Federal Aviation Administration

Notice of Intent To Rule on Request To Release Airport Property at the Smyrna/Rutherford County Airport, Smyrna, TN

AGENCY: Federal Aviation Administration (FAA), DOT.

ACTION: Request for public comment.

SUMMARY: The Federal Aviation Administration is requesting public comment on the release of land at the Smyrna/Rutherford County Airport in the city of Smyrna, Tennessee. This property, approximately 15.65 acres plus associated buildings, will change to ownership by the Tennessee Air National Guard. This action is taken under the provisions of Section 125 of the Wendell H. Ford Aviation Investment Reform Act for the 21 Century (AIR 21).

DATES: Comments must be received on or before October 17, 2008.

ADDRESSES: Documents are available for review at the Smyrna/Rutherford County Airport, 278 Doug Warpoole Road, Smyrna, Tennessee 37167, the Tennessee Department of Transportation, Division of Aeronautics, 424 Knapp Blvd, Bldg 4219, Nashville, TN 3721 and the FAA Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. Bob Woods, Director, TDOT, Division of Aeronautics, P.O. Box 17326, Nashville, TN 37217 and Mr. John Black, Executive Director, Smyrna/Rutherford County Airport, 278 Doug Warpoole Road, Smyrna, Tennessee 37167.

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to release property at the Smyrna/Rutherford County Airport, Smyrna, TN. Under the provisions of AIR 21 (49 U.S.C. 47107(h)(2)).

On August 29, 2008, the FAA determined that the request to release property at Smyrna/Rutherford County Airport submitted by the airport owner meets the procedural requirements of the Federal Aviation Administration. The FAA may approve the request, in whole or in part, no later than October 17, 2008.

The following is a brief overview of the request:

The Smyrna/Rutherford County Airport Authority, owners of the Smyrna/Rutherford County Airport, are proposing the release of approximately 15.65 acres of airport property so the property can be sold to the Tennessee Air National Guard. The aeronautical use of the property will remain unchanged.

Any person may inspect, by appointment, the request in person at the FAA office listed above under FOR FURTHER INFORMATION CONTACT.

In addition, any person may, upon appointment and request, inspect the request, notice and other documents germane to the request in person at the Tennessee Department of Transportation, Division of Aeronautics or the Smyrna/Rutherford County Airport.

Issued in Memphis, TN, on August 29, 2008.
Phillip J. Braden,
Manager, Memphis Airports District Office, Southern Region.

[FR Doc. E8-21515 Filed 9-16-08; 8:45 am]

BILLING CODE 4910-13-M